DEPARTMENT OF COMMERCE

Foreign-Trade Zones Board

[Docket 5-2009]

Foreign-Trade Zone 49 -- Newark, New Jersey Area, Application for Expansion

An application has been submitted to the Foreign-Trade Zones (FTZ) Board (the Board) by the Port Authority of New York and New Jersey, grantee of FTZ 49, requesting authority to expand its zone to include an additional site located in Edison, New Jersey, within the Newark/New York Customs and Border Protection port of entry. The application was submitted pursuant to the provisions of the Foreign-Trade Zones Act, as amended (19 U.S.C. 81a-81u), and the regulations of the Board (15 CFR part 400). It was formally filed on February 6, 2009.

FTZ 49 was approved on April 6, 1979 (Board Order 146, 44 FR 22502, 4/16/79) and expanded as follows: on May 26, 1983 (Board Order 211, 48 FR 24958, 6/3/83); on October 23, 1987 (Board Order 365, 52 FR 41599, 10/29/87); on April 19, 1990 (Board Order 470, 55 FR 17478, 4/25/90); on December 15, 1999 (Board Order 1067, 64 FR 72642, 12/28/99); on April 14, 2006 (Board Order 1446, 71 FR 23895, 4/25/06); and, on February 28, 2007 (Board Order 1504, 72 FR 10642, 3/9/07).

The general-purpose zone project currently consists of ten sites (3,588 acres total): Site 1 (2,075 acres) -- Port Newark/Elizabeth Port Authority Marine Terminal and three parcels located at 888 Doremus Avenue in Newark, at 50 Division Street in Elizabeth and at 251-259 Kapowski Road in Elizabeth; Site 2 (64 acres) -- Global Terminal and Container Services and adjacent Jersey Distribution Services facility in Jersey City and Bayonne; Site 3 (124 acres) -- Port Authority Industrial Park, adjacent to the Port Newark/Elizabeth Port Authority Marine terminal; Site 4 (198 acres) -- Port Authority Auto Marine Terminal and adjacent Greenville Industrial Park in Bayonne and Jersey City; Site 5 (40 acres) -- the jet fuel storage and distribution system at Newark International Airport in Newark and Elizabeth; Site 6 (407 acres) -- within the 441-acre South Kearny Industrial Park located at 100 Central Avenue in Kearny; Site 7 (114 acres) -- I-Port 12 industrial park located at exit 12 of the New Jersey Turnpike in Carteret (sunset 3/31/2014); Site 8 (176 acres) -- within the 183-acre I-Port 440 industrial park located east of State Street and north of the Outer Bridge Crossing in Perth Amboy (sunset 3/31/2014); Site 9 (317 acres) -- Port Reading Business Park located on Port Reading Avenue in Woodbridge (sunset 3/31/2014); and, Site 10 (73 acres) -- Port Elizabeth Business Park located at 10 North Avenue East in Elizabeth (sunset 3/31/2014).

The applicant is now requesting authority to expand the general-purpose zone to include a site at the Heller Industrial Park located at 205 Mill Road in Edison (Proposed Site 11 - 401.753 acres). The park consists of 33 existing buildings (7.8 million square feet of space) with 69 companies currently occupying the park. The park can accommodate various activities, including warehousing, distribution, light manufacturing and third-party logistics operations. No specific manufacturing requests are being made at this time. Such requests would be made to the Board on a case-by-case basis.

In accordance with the Board's regulations, Camille Evans of the FTZ Staff is designated examiner to investigate the application and report to the Board.

Public comment is invited from interested parties. Submissions (original and 3 copies) shall be addressed to the Board's Executive Secretary at the address listed below. The closing period for their receipt is April 20, 2009. Rebuttal comments in response to material submitted during the foregoing period may be submitted during the subsequent 15-day period (to May 4, 2009).

A copy of the application will be available for public inspection at the Office of the Executive Secretary, Foreign-Trade Zones Board, Room 2111, U.S. Department of Commerce, 1401 Constitution Avenue NW, Washington, DC 20230-0002, and in the “Reading Room” section of the Board's website, which is accessible via www.trade.gov/ftz. For further information, contact Camille Evans at Camille_Evans@ita.doc.gov or (202) 482-2350.

Dated: February 6, 2009.
Andrew McGilvray,
Executive Secretary.

[FR Doc. E9-3173 Filed 2-13-09; 8:45 am]

BILLING CODE 3510-DS-S